DEPARTMENT OF JUSTICE

Notice of Lodging of an Amendment to Consent Decree Under the Clean Air Act

On May 9, 2014, the Department of Justice lodged with the United States District Court for the Southern District of Illinois a proposed Fourth Amendment to the consent decree in the lawsuit entitled United States et al v. Lafarge North America, et al., Civil Action No. 3:10-cv-44-JPG.

The consent decree, which was entered by the Court on March 18, 2010, resolves claims of the United States and twelve states or state agencies against Lafarge North America, Inc., Lafarge Midwest, Inc., and Lafarge Building Materials, Inc. (“Lafarge”) for alleged violations of the Clean Air Act (“CAA” or “Act”) at its thirteen Portland cement production facilities in the United States. The proposed Fourth Amendment affects only two of the thirteen cement plants addressed in the Consent Decree: The Sugar Creek, Missouri cement plant and the Tulsa, Oklahoma cement plant. As of November 30, 2012, the Lafarge Companies have transferred ownership and operation of the Sugar Creek and Tulsa plants to Audubon Materials LLC and Tulsa Cement LLC, respectively. If approved by the Court, the Fourth Amendment would substitute Audubon Materials LLC for the Lafarge Companies at the Sugar Creek, Missouri plant, and would substitute Tulsa Cement LLC for the Lafarge Companies at the Tulsa, Oklahoma plant. Audubon Materials LLC, Tulsa Cement LLC, and their parent, Eagle Materials Inc. (collectively, “the Eagle Companies”) have agreed in writing to assume the obligations, rights, and benefits of, and to be bound by the terms and conditions of, the Consent Decree, to the extent those terms and conditions relate to the Sugar Creek and Tulsa Cement plants.

The publication of this notice opens a period for public comment on the Fourth Amendment. Comments should be addressed to the Assistant Attorney General, Environment and Natural Resources Division, and should refer to United States et al v. Lafarge North America, et al., Civil Action No. 3:10-cv-44-JPG, D.J. Ref No. 90-5-2-1-08221. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the proposed Fourth Amendment may be examined and downloaded at this Justice Department Web site: http://www.usdoj.gov/enrd/Consent_Decrees.html. We will provide a paper copy of the proposed Fourth Amendment upon written request and payment of reproduction costs. Please mail your request and payment to: Consent Decree Library, U.S. DOJ—ENRD, P.O. Box 7611, Washington, DC 20044-7611.

Please enclose a check or money order for $12.75 (25 cents per page reproduction cost) payable to the United States Treasury. For a paper copy without the exhibits and signature pages, the cost is $9.00.

Maureen Katz,
Assistant Section Chief, Environmental Enforcement Section, Environment and Natural Resources Division.

[FR Doc. 2014-11151 Filed 5-14-14; 8:45 am]

BILLING CODE 4410-15-P